DEPARTMENT OF COMMERCE

National Oceanic and Atmospheric Administration

[I.D. 112403B]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a joint public meeting via conference call of the Standing and Special Reef Fish Scientific and Statistical Committee (SSC).

DATES: The meeting will be via conference call on December 12, 2003 beginning at 10 a.m. EDT.

ADDRESSES: Listening stations will be available at the following locations:

NMFS Southeast Regional Office, 9721 Executive Center Drive, North, St. Petersburg, FL 33702; Contact: Peter Hood at 727-570-5305;

NMFS Panama City Laboratory, 3500 Delwood Beach Road, Panama City, FL; Contact: Gary Fitzhugh at 850-234-6541, extension 214.

Council address: Gulf of Mexico Fishery Management Council, 3018 U.S. Highway 301 North, Suite 1000, Tampa, FL 33619.

FOR FURTHER INFORMATION CONTACT: Steven Atran, Population Dynamics Statistician, Gulf of Mexico Fishery Management Council; telephone: 813-228-2815.

SUPPLEMENTARY INFORMATION: The SSC will be convened to evaluate the socioeconomic information contained in Reef Fish Secretarial Amendment 1, red grouper rebuilding plan and deep-water grouper quotas. The SSC will be asked specifically to provide the Council with guidance on the economic impacts of trip limits vs. closed seasons.

Red grouper were declared overfished by NMFS in October 2000. Following additional analyses and a subsequent stock assessment in 2002, the Council, in May 2003, submitted Reef Fish Secretarial Amendment 1 to NMFS. This amendment contained a rebuilding plan that called for approximately a 10 percent reduction in harvest, to be achieved through a reduction in the commercial shallow-water grouper quota, replacing the February 15 to March 15 commercial closed season on gag, red and black grouper with a shallow-water grouper trip limit, and a recreational bag limit of no more than two red grouper (out of the 5 aggregate grouper bag limit). The rebuilding plan also proposed a reduction in the deep-water grouper quota and setting of a tilefish quota in order to discourage effort shifting to those stocks. Because more than one year had passed since the designation of red grouper as overfished, the amendment was submitted as a Secretarial Amendment rather than as a Council Plan Amendment.

NMFS reviewed the plan as submitted by the Gulf Council and made revisions to it. The revisions included retaining the February 15-March 15 commercial closed season, implementing a hard quota on red grouper so that the commercial shallow-water grouper fishery will close when either the red grouper or shallow-water grouper quota is met, whichever comes first, and not implementing a trip limit.

A draft of the revised Secretarial Amendment was reviewed by the SSC at a meeting held October 28-29, 2003. However, the NMFS revisions were not provided to the SSC until just prior to the meeting, and the SSC was unable to review the socioeconomic information contained in the amendment's regulatory impact review section. At the November 9-12, 2003 Council meeting in Biloxi, Mississippi, Council members debated whether it would be less economically disruptive to the commercial shallow-water grouper fishery to have a potential quota closure or a shallow-water grouper trip limit set low enough to prevent a quota closure. Since the Council will have another opportunity to review and comment on Secretarial Amendment 1 at its January 12-16, 2004 meeting in Austin, TX, the Council decided to ask the SSC to reconvene by conference call to evaluate the socioeconomic information in the amendment, with particular emphasis on the economic impacts of trip limits vs. closed seasons.

To obtain a copy of Reef Fish Secretarial Amendment 1, contact Phil Steele, NMFS Southeast Regional Office, 9721 Executive Center Drive, North, St. Petersburg, FL 33702; telephone: 727-570-5305, fax: 727-570-5583, e-mail: Phil.Steele@noaa.gov

A copy of the agenda can be obtained by contacting the Council (see addresses above).

Although non-emergency issues not contained in the agenda may come before the AP/SSC for discussion, in accordance with the Magnuson-Stevens Fishery Conservation and Management Act (MSFCMA), those issues may not be the subject of formal action during this meeting. Action will be restricted to those issues specifically identified in this notice and any issues arising after publication of this notice that require emergency action under section 305(c) of the MSFCMA, provided the public has been notified of the Council's intent to take final action to address the emergency.

The listening stations are physically accessible to people with disabilities. Requests for sign language interpretation or other auxiliary aids should be directed to Anne Alford at the Council (see ADDRESSES) by December 5, 2003.

Dated: November 24, 2003.
Richard W. Surdi,
Acting Director, Office of Sustainable Fisheries, National Marine Fisheries Service.

[FR Doc. 03-29737 Filed 11-26-03; 8:45 am]

BILLING CODE 3510-22-S